DEPARTMENT OF THE INTERIOR

National Park Service

[WASO-NRSS-10750; 2490-STC]

Proposed Information Collection; Comment Request: Appalachian Trail Management Partner Survey

AGENCY: National Park Service (NPS), Interior.

ACTION: Notice of an extension of a currently approved information collection (1024-0259); request for comments.

SUMMARY: We (National Park Service) will ask the Office of Management and Budget (OMB) to approve the information collection (IC) described below. This collection is to track the satisfaction of federal, state, and not-for-profit partner organizations and agencies receiving support from the Appalachian Trail Park Office (ATPO) to protect trail resources and provide for the public enjoyment and visitor experience of the Appalachian National Scenic Trail (Trail). To comply with the Paperwork Reduction Act of 1995 and as a part of our continuing efforts to reduce paperwork and respondent burden, we invite the general public and other federal agencies to comment on this IC. The PRA (44 U.S.C. 3501, et seq.) provides that we may not conduct or sponsor and a person is not required to respond to a collection unless it displays a currently valid OMB control number and current expiration date.

DATES: Please submit your comment on or before September 4, 2012.

ADDRESSES: Please send your comments to the IC to Phadrea Ponds, Information Collections Coordinator, National Park Service, 1201 Oakridge Drive, Fort Collins, CO 80525 (mail); or phadrea_ponds@nps.gov (email). Please reference Information Collection 1024-0259 APPALACHIAN NATIONAL SCENIC TRAIL, in the subject line.

FOR FURTHER INFORMATION CONTACT: Angela Walters, Appalachian National Scenic Trail (ANST), NPS, P.O. Box 50, Harpers Ferry, WV 25425; or via phone at (304) 535-6278; or via fax at (304) 535-6270, or via email at angela_walters@nps.gov.

SUPPLEMENTARY INFORMATION:

I. Abstract

The Appalachian National Scenic Trail (ANST) is an unusual unit of the national park system, managed through a decentralized volunteer-based cooperative management system involving: eight national forests, six other national park units, agencies in fourteen states, the Appalachian Trail Conservancy, and citizen volunteers from 30 affiliated trail club organizations. The Appalachian Trail Management Partner Survey (ATMPS) will be used to measure performance through a partner satisfaction survey. The purpose of the ATMPS is to track the satisfaction of partner organizations receiving support from the Appalachian Trail Park Office (ATPO). Progress is measured by evaluating the quality of support provided by ATPO. Data from the proposed survey is needed to assess performance regarding NPS GPRA goal IIb0. HPS performance on all goals measured in this study will contribute to DOI Department-wide performance reports.

II. Data

OMB Control Number: 1024-0259.

Title: Appalachian Trail Management Partner Survey.

Type of Request: Extension of a currently approved collection.

Affected Public: General public; Partners in the Appalachian Trail Cooperative Management System.

Respondent's Obligation: Voluntary.

Frequency of Collection: Annually.

Estimated Annual Number of Respondents: 200 (150 respondents and 50 non-respondents).

Estimated Total Annual Burden Hours: 23 hours (3 minutes for respondents and 1 minute for non-respondents).

Estimated Reporting and Recordkeeping “Non-Hour Cost” Burden: None.

Comments: We invite comments concerning this IC on: (1) Whether or not the proposed collection of information is necessary for the agency to perform its duties, including whether or not the information will have practical utility; (2) the accuracy of our estimate of the burden for this collection of information; (3) ways to enhance the quality, utility, and clarity of the information to be collected; and (4) ways to minimize the burden of the collection of information on respondents, including the use of automated collection techniques or other forms of information technology.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: June 29, 2012.
Madonna L. Baucum,
Acting Information Collection Clearance Officer, National Park Service.

[FR Doc. 2012-16476 Filed 7-3-12; 8:45 am]

BILLING CODE 4312-52-P